DEPARTMENT OF TRANSPORTATION

Federal Highway Administration

Notice To Rescind a Notice of Intent To Prepare a Supplemental Environmental Impact Statement (SEIS): Route 475 (Knoxville Parkway), From Interstate 75 South of Knoxville to Interstate 75 North of Knoxville, Loudon, Knox, and Anderson Counties, TN

AGENCY: Federal Highway Administration (FHWA), DOT.

ACTION: Notice of intent.

SUMMARY: The Federal Highway Administration (FHWA) is issuing this notice to advise the public that the Notice of Intent published on November 4, 2005 to prepare a SEIS for the proposed Route 475 (Knoxville Parkway) from Interstate 75 south of Knoxville to Interstate 75 north of Knoxville, Loudon, Knox, and Anderson Counties, Tennessee, is being rescinded.

FOR FURTHER INFORMATION CONTACT: Mr. Charles J. O'Neill, Planning and Program Management Team Leader, Federal Highway Administration—Tennessee Division Office, 404 BNA Drive, Suite 508, Nashville, TN 37217. 615-781-5770.

SUPPLEMENTARY INFORMATION: The FHWA, in cooperation with the Tennessee Department of Transportation, is rescinding the notice of intent to prepare a SEIS for the proposed Route 475 (Knoxville Parkway) from Interstate 75 south of Knoxville to Interstate 75 north of Knoxville, Loudon, Knox, and Anderson Counties, Tennessee. The proposed project was approximately 36 miles in length.

The project as described in the December 18, 2001 Draft Environmental Impact Statement (DEIS) was proposed to improve the regional transportation system in the area.

Since the original Draft Environmental Impact was approved, the alternative development and screening process for the project has continued through a Context Sensitive Solution Process (CSS). This CSS process identified new alternatives to follow the general alignment of the Orange alternative, but had been shifted at various locations based on input from the CSS process. In addition, the number and type of access points along the route have been modified. The purpose of the SDEIS was to study and develop the new alternatives. The No-Build and three Build Alternatives were proposed to be studied in the SDEIS.

Revised traffic projections show a much lower level of traffic using the new proposed Route 475 (Knoxville Parkway) and a smaller diversion of traffic from Interstate 40 and Interstate 75 than was originally projected. In addition, the estimated cost of approximately one billion dollars was determined to be prohibitive.

To ensure that the full range of issues related to this proposed action are identified and taken into account, comments and suggestions are invited from all interested parties. Comments and questions concerning the proposed action should be directed to the FHWA contact person identified above at the address provided above.

(Catalog of Federal Domestic Assistance Program Number 20.205, Highway Planning and Construction. The regulations implementing Executive Order 12372 regarding intergovernmental consultation on Federal programs and activities apply to this proposed program.)

Charles J. O'Neill,
Planning and Program Mgmt., Team Leader, Nashville, TN.

[FR Doc. 2010-23525 Filed 9-20-10; 8:45 am]

BILLING CODE 4910-22-P